DEPARTMENT OF THE TREASURY

Internal Revenue Service

26 CFR Part 1

[TD 9787]

RIN 1545-BK29

Section 707 Regarding Disguised Sales, Generally; Correction

AGENCY: Internal Revenue Service (IRS), Treasury.

ACTION: Correcting amendment.

SUMMARY: This document contains corrections to final regulations (TD 9787) that were published in the Federal Register on Wednesday, October 5, 2016 (81 FR 69291). The final regulations are under sections 707 and 752 of the Internal Revenue Code.

DATES: This correction is effective November 16, 2016 and is applicable on and after October 5, 2016.

FOR FURTHER INFORMATION CONTACT: Deane M. Burke or Caroline E. Hay at (202) 317-5279 (not a toll-free number).

SUPPLEMENTARY INFORMATION:

Background

The final regulations (TD 9787) that are the subject of this correction are under sections 707 and 752 of the Internal Revenue Code.

Need for Correction

As published, the final regulations (TD 9787) contain errors that may prove to be misleading and are in need of clarification.

List of Subjects in 26 CFR Part 1

Income taxes, Reporting and recordkeeping requirements.

Correction of Publication

Accordingly, 26 CFR Part 1 is corrected by making the following correcting amendments:

PART 1—INCOME TAXES

Paragraph 1. The authority citation for part 1 continues to read in part as follows:

Authority: 26 U.S.C. 7805 * * *

Section 1.707-5 also issued under 26 U.S.C. 707(a)(2)(B).

§ 1.707-5 [Amended]

Par. 2. For each entry in § 1.707-5(f) in the “Section” column, remove the language in the “Remove” column from wherever it appears in the Example and add in its place the language in the “Add” column as set forth below:

Section | Remove | Add
Paragraph (f) Example 5(i) | 2016 | 2017
Paragraph (f) Example 10(i) | 2016 | 2017
Paragraph (f) Example 10(ii) | 2016 | 2017
Paragraph (f) Example 11(i) | 2016 | 2017
Paragraph (f) Example 11(ii) | 2016 | 2017
Paragraph (f) Example 12(i) | 2016 | 2017

Martin V. Franks,
Chief, Publications and Regulations Branch, Legal Processing Division, Associate Chief Counsel (Procedure and Administration).

[FR Doc. 2016-27515 Filed 11-15-16; 8:45 am]

BILLING CODE 4830-01-P